DEPARTMENT OF ENERGY

Energy Information Administration

Proposed Agency Information Collection

AGENCY: U.S. Energy Information Administration (EIA), U.S. Department of Energy (DOE).

ACTION: Notice and request for OMB review and comment.

SUMMARY: EIA has submitted the Forms EIA-457A, C, D, E, F and G, “2015 Residential Energy Consumption Survey” to the Office of Management and Budget (OMB) for review and reinstatement under the provisions of the Paperwork Reduction Act of 1995. The proposed collection is a periodic series of surveys of households and their energy suppliers with the purpose of collecting and reporting energy characteristics, consumption, and expenditures data of homes in the United States.

DATES: Comments regarding this proposed information collection must be received on or before June 12, 2015. If you anticipate that you will be submitting comments, but find it difficult to do so within the period of time allowed by this notice, please advise the DOE Desk Officer at OMB of your intention to make a submission as soon as possible. The Desk Officer may be telephoned at 202-395-4718.

ADDRESSES: Written comments should be sent to the:

DOE Desk Officer, Office of Information and Regulatory Affairs, Office of Management and Budget, New Executive Office Building, Room 10102, 735 17th Street NW., Washington, DC 20503.

And to

James Berry, Survey Manager, EI-22, Forrestal Building, U.S. Department of Energy, Washington, DC 20585, or by email at james.berry@eia.gov. Alternatively, Mr. Berry may be contacted by telephone at (202) 586-5543.

FOR FURTHER INFORMATION CONTACT: Requests for additional information or copies of the forms and instructions should be directed to Mr. Berry at the contact information given above. To view the forms online please go to: http://www.eia.gov/survey/#eia-457.

SUPPLEMENTARY INFORMATION: This information collection request contains:

(1) OMB No. 1905-0092.

(2) Information Collection Request Title: EIA-457A C, D, E, F, G, “Residential Energy Consumption Survey”.

(3) Type of Request: Reinstatement with change of a previously approved collection for which approval has discontinued.

(4) Purpose: Need for and proposed use of the information: The RECS is used to collect data on energy characteristics, consumption, and expenditures of U.S. homes. These data collections fulfill planning, analysis and decision-making needs of DOE, other Federal agencies, State governments, and the private sector. Respondents are households of selected housing units and their energy suppliers. Response obligations are Voluntary (households) and Mandatory (energy suppliers). This will be a proposed reinstatement of a previously approved collection and three-year clearance request to OMB. The content of the 2015 RECS will be largely unchanged from the 2009 RECS. Sampling will incorporate key definitions and elements from previous RECS. Housing units will be selected via a multi-stage area probability sample design and will be statistically representative of U.S. occupied housing units, as well as selected sub-national geographies. In addition to the billing data collection for 2015 RECS housing units, EIA will also collect billing data for household records in the RECS National Pilot study. Because the National Pilot sample design is similar to the 2015 RECS, EIA expects most energy suppliers that report in the 2015 RECS will also be in the sample for the National Pilot data collection.

(5) Annual Estimated Number of Respondents: 1,351.

(6) Annual Estimated Number of Total Responses: 4,455.

(7) Annual Estimated Number of Burden Hours: 1,697.

(8) Annual Estimated Reporting and Recordkeeping Cost Burden: EIA estimates that there are no capital and start-up costs associated with this data collection. The information is maintained in the normal course of business. For household respondents no additional record keeping or other burden is required outside the interview process. The cost of burden hours to all household, rental agent, and energy supplier respondents is estimated to be $122,133 (1,697 annual burden hours times the current hourly rate of $71.97.) Therefore, other than the cost of burden hours, EIA estimates that there are no additional costs for generating, maintaining and providing the information.

Please refer to the supporting statement as well as the proposed forms and instructions for more information about the purpose, who must report, when to report, where to submit, the elements to be reported, detailed instructions, provisions for confidentiality, and uses (including possible nonstatistical uses) of the information. For instructions on obtaining materials, see the FOR FURTHER INFORMATION CONTACT section.

Statutory Authority: Section 13(b) of the Federal Energy Administration Act of 1974, Public Law 93-275, codified at 15 U.S.C. 772(b).

Issued in Washington, DC, on May 7, 2015.
Nanda Srinivasan,
Director, Office of Survey Development and Statistical Integration U.S. Energy Information Administration.

[FR Doc. 2015-11550 Filed 5-12-15; 8:45 am]

BILLING CODE 6450-01-P